DEPARTMENT OF AGRICULTURE

Forest Service

South Mt. Baker-Snoqualmie Resource Advisory Committee (RAC)

AGENCY: Forest Service, USDA.

ACTION: Notice of meetings.

SUMMARY: The South Mt. Baker-Snoqualmie Resource Advisory Committee (RAC) will meet at the Snoqualmie Ranger District Office in North Bend, WA to review and select Title II projects for FY 2007.

DATES: Thursday, May 4, 2006, from 9 a.m. until 4 p.m.

ADDRESSES: Snoqualmie Ranger District, North Bend Office, 42404 SE North Bend Way, North Bend, WA 98045.

FOR FURTHER INFORMATION CONTACT: Jim Franzel, Designated Federal Official, USDA Forest Service, Mt. Baker-Snoqualmie National Forest, Snoqualmie Ranger District, 42404 SE North Bend Way, WA 98045-0545 (phone 425-888-1421, Extension 230), or Penny Sundblad, Management Specialist, USDA Forest Service, Mt. Baker-Snoqualmie National Forest, 810 State Route 20, Sedro Wooley, Washington 98284 (360-856-5700).

SUPPLEMENTARY INFORMATION: All South Mt. Baker-Snoqualmie RAC meetings are open to the public. Interested citizens are encouraged to attend. The South Mt. Baker-Snoqualmie RAC reviews project proposals, and makes recommendations to the Forest Supervisor for projects to be funded by Title II dollars, under Public Law 106-393, H.R. 2389, The Secure Rural Schools and Community Self-Determination Act of 2000, also called the “Payments to States” Act.

Dated: March 21, 2006.
Allen Gibbs,
Acting Designated Federal Official.

[FR Doc. 06-2957 Filed 3-27-06; 8:45 am]

BILLING CODE 3410-11-M